DEPARTMENT OF ENERGY

Federal Energy Regulatory Commission

Combined Notice of Filings #1

Take notice that the Commission received the following electric corporate filings:

Docket Numbers: EC15-167-000.

Applicants: Sky River LLC, Sky River Asset Holdings, LLC, Sagebrush, a California partnership, Sagebrush Partner Fifteen, Inc.

Description: Application of Sky River LLC, et al. for Authorization Under Section 203 of the Federal Power Act and Request for Expedited Action.

Filed Date: 7/13/15.

Accession Number: 20150713-5216.

Comments Due: 5 p.m. ET 8/3/15.

Take notice that the Commission received the following electric rate filings:

Docket Numbers: ER10-3168-013; ER15-356-003; ER15-357-003; ER12-2570-009; ER13-618-008.

Applicants: ArcLight Energy Marketing, LLC, Chief Conemaugh Power, LLC, Chief Keystone Power, LLC, Panther Creek Power Operating, LLC, Westwood Generation, LLC.

Description: Notice of Non-Material Change in Status of ArcLight Energy Marketing, LLC, et al.

Filed Date: 7/13/15.

Accession Number: 20150713-5212.

Comments Due: 5 p.m. ET 8/3/15.

Docket Numbers: ER14-2871-005; ER10-3243-007; ER10-3244-007; ER10-3245-006; ER10-3249-006; ER10-3250-006; ER10-2977-006; ER10-3169-009; ER10-3251-005; ER14-2382-005; ER15-621-004; ER11-2639-006; ER15-622-004; ER15-463-004; ER15-110-004; ER13-1586-006; ER10-1992-012.

Applicants: Cameron Ridge, LLC, Chandler Wind Partners, LLC, Coso Geothermal Power Holdings, LLC, Foote Creek II, LLC, Foote Creek III, LLC, Foote Creek IV, LLC, Mesquite Power, LLC, Michigan Power Limited Partnership, Oak Creek Wind Power, LLC, ON Wind Energy LLC, Pacific Crest Power, LLC, Ridge Crest Wind Partners, LLC, Ridgetop Energy, LLC, San Gorgonio Westwinds II, LLC, Terra-Gen Energy Services, LLC, TGP Energy Management, LLC, Victory Garden Phase IV, LLC.

Description: Notice of Non-Material Change in Status of Cameron Ridge, LLC, et al.

Filed Date: 7/13/15.

Accession Number: 20150713-5215.

Comments Due: 5 p.m. ET 8/3/15.

Docket Numbers: ER15-1554-000.

Applicants: Midcontinent Independent System Operator, Inc.

Description: Report Filing: 2015-07-14_SA 2780 Refund Report of ATC-MP OCSA to be effective N/A.

Filed Date: 7/14/15.

Accession Number: 20150714-5030.

Comments Due: 5 p.m. ET 8/4/15.

Docket Numbers: ER15-1555-000.

Applicants: Midcontinent Independent System Operator, Inc.

Description: Report Filing: 2015-07-14_SA 2781 Refund Report of ATC-SWLP OCSA to be effective N/A.

Filed Date: 7/14/15.

Accession Number: 20150714-5027.

Comments Due: 5 p.m. ET 8/4/15.

Docket Numbers: ER15-2187-000.

Applicants: Chief Conemaugh Power, LLC.

Description: Section 205(d) Rate Filing: Succession to Duquesne Interests to be effective 7/14/2015.

Filed Date: 7/13/15.

Accession Number: 20150713-5156.

Comments Due: 5 p.m. ET 8/3/15.

Docket Numbers: ER15-2188-000.

Applicants: Chief Keystone Power, LLC.

Description: Section 205(d) Rate Filing: Succession to Duquesne Interests to be effective 7/14/2015.

Filed Date: 7/13/15.

Accession Number: 20150713-5157.

Comments Due: 5 p.m. ET 8/3/15.

Docket Numbers: ER15-2189-000.

Applicants: Duke Energy Progress, Inc., Duke Energy Florida, Inc., Duke Energy Carolinas, LLC

Description: Section 205(d) Rate Filing: Joint OATT Amendment to be effective 9/11/2015.

Filed Date: 7/13/15.

Accession Number: 20150713-5158.

Comments Due: 5 p.m. ET 8/3/15.

Docket Numbers: ER15-2190-000.

Applicants: Midcontinent Independent System Operator, Inc.

Description: Section 205(d) Rate Filing: 2015-07-13 Attachment J TSR Waiver Filing to be effective 9/1/2015.

Filed Date: 7/13/15.

Accession Number: 20150713-5159.

Comments Due: 5 p.m. ET 8/3/15.

Docket Numbers: ER15-2191-000.

Applicants: Grant Wind, LLC.

Description: Baseline eTariff Filing: Application for MBR to be effective 7/14/2015.

Filed Date: 7/13/15.

Accession Number: 20150713-5160.

Comments Due: 5 p.m. ET 8/3/15.

Docket Numbers: ER15-2192-000.

Applicants: PJM Interconnection, L.L.C.

Description: Tariff Cancellation: Notice of Cancellation of Service Agreement No. 3939; Queue Z2-019 to be effective 6/15/2015.

Filed Date: 7/13/15.

Accession Number: 20150713-5163.

Comments Due: 5 p.m. ET 8/3/15.

Docket Numbers: ER15-2193-000.

Applicants: PJM Interconnection, L.L.C., Commonwealth Edison Company.

Description: Section 205(d) Rate Filing: ComEd submits Transmission Interconnection Agreement 4212 to be effective 7/13/2015.

Filed Date: 7/13/15.

Accession Number: 20150713-5164.

Comments Due: 5 p.m. ET 8/3/15.

Docket Numbers: ER15-2194-000.

Applicants: SunE Solar XVII Project1, LLC.

Description: Baseline eTariff Filing: SFA to be effective 7/15/2015.

Filed Date: 7/14/15.

Accession Number: 20150714-5001.

Comments Due: 5 p.m. ET 8/4/15.

Docket Numbers: ER15-2195-000.

Applicants: SunE Solar XVII Project2, LLC.

Description: Baseline eTariff Filing: SFA to be effective 7/15/2015.

Filed Date: 7/14/15.

Accession Number: 20150714-5002.

Comments Due: 5 p.m. ET 8/4/15.

Docket Numbers: ER15-2196-000.

Applicants: SunE Solar XVII Project3, LLC.

Description: Baseline eTariff Filing: SFA to be effective 7/15/2015.

Filed Date: 7/14/15.

Accession Number: 20150714-5003.

Comments Due: 5 p.m. ET 8/4/15.

Docket Numbers: ER15-2197-000.

Applicants: DTE Electric Company.

Description: Section 205(d) Rate Filing: DTE and City of Croswell Interconnection Agreement to be effective 9/1/2015.

Filed Date: 7/14/15.

Accession Number: 20150714-5024.

Comments Due: 5 p.m. ET 8/4/15.

Docket Numbers: ER15-2198-000.

Applicants: DTE Electric Company.

Description: Section 205(d) Rate Filing: DTE and Village of Sebewaing Interconnection Agreement to be effective 9/1/2015.

Filed Date: 7/14/15.

Accession Number: 20150714-5025.

Comments Due: 5 p.m. ET 8/4/15.

Docket Numbers: ER15-2199-000.

Applicants: DTE Electric Company.

Description: Section 205(d) Rate Filing: DTE and Thumb Electric Cooperative Interconnection Agreement to be effective 9/1/2015.

Filed Date: 7/14/15.

Accession Number: 20150714-5026.

Comments Due: 5 p.m. ET 8/4/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 14, 2015.
Nathaniel J. Davis, Sr.,
Deputy Secretary.

[FR Doc. 2015-17693 Filed 7-17-15; 8:45 am]

BILLING CODE 6717-01-P